POSTAL SERVICE

Market Test of “Collaborative Logistics” Experimental Product

AGENCY: Postal Service™.

ACTION: Notice.

SUMMARY: The Postal Service gives notice of a market test of an experimental product under 39 U.S.C. 3641.

DATES: April 7, 2009.

FOR FURTHER INFORMATION CONTACT: Scott Reiter, 202-268-2999.

SUPPLEMENTARY INFORMATION: The United States Postal Service® hereby gives notice pursuant to 39 U.S.C. 3641(c)(1) that it will begin a market test of Collaborative Logistics on May 6, 2009. The Postal Service has filed the notice appearing below with the Postal Regulatory Commission; documents are available at http://www.prc.gov, Docket No. MT2009-1.

Neva R. Watson,
Attorney, Legislative.

[FR Doc. E9-7765 Filed 4-6-09; 8:45 am]

BILLING CODE 7710-12-P